DEPARTMENT OF COMMERCE

National Oceanic and Atmospheric Administration

[I.D. 122104E]

New England Fishery Management Council; Public Meetings

AGENCY: National Marine Fisheries Service (NMFS), National Oceanic and Atmospheric Administration (NOAA), Commerce

ACTION: Notice of a public meeting.

SUMMARY: The New England Fishery Management Council (Council) is scheduling a public meeting of its Groundfish Oversight Committee in January, 2005 to consider actions affecting New England fisheries in the exclusive economic zone (EEZ). Recommendations from this group will be brought to the full Council for formal consideration and action, if appropriate.

DATES: The meeting will be held on January 13, 2005, at 9:30 a.m.

ADDRESSES: The meeting will be held at the Holiday Inn, 31 Hampshire Street, Mansfield, MA 02048; telephone: (978) 339-2200.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The Groundfish Committee will meet to consider changes to the management measures, if necessary, in order to meet the objectives of Amendment 13. In addition to changes that may be needed to respond to the updated assessments, the Committee may consider changes to other management measures. These could include, but are not limited to, an extension of the days-at-sea leasing program, modifications to the default measures, modifications to existing Special Access Programs (SAPs) or additional SAPs, changes to permitting conditions, reviews of bycatch information, etc.

As a result of the extensive scope of this next management action, the Groundfish Committee will also meet to develop recommendations on the broad issues to be addressed in the next adjustment, identify the information that will be needed to support decisions on those issues, develop a timeline for the Committee's work, and may begin to identify specific measures that will be included. The Committee's recommendations will be presented to the full Council for consideration at a later date.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Paul J. Howard (see ADDRESSES) at least 5 days prior to the meeting dates.

Dated: December 22, 2004.
Alan D. Risenhoover,
Acting Director, Office of Sustainable Fisheries, National Marine Fisheries Service.

[FR Doc. E4-3838 Filed 12-27-04; 8:45 am]

BILLING CODE 3510-22-S